POSTAL SERVICE

Privacy Act of 1974; System of Records

AGENCY: Postal Service®.

ACTION: Notice of modified systems of records.

SUMMARY: The United States Postal Service® (Postal Service) is proposing to revise a Customer Privacy Act System of Records (SOR). These modifications are being made to support an initiative to identify population mobility trends in the aggregate.

DATES: These revisions will become effective without further notice on October 31, 2022, unless in response to comments received on or before that date result in a contrary determination.

ADDRESSES: Comments may be submitted via email to the Privacy and Records Management Office, United States Postal Service Headquarters (privacy@usps.gov). To facilitate public inspection, arrangements to view copies of any written comments received will be made upon request.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. The Postal Service has determined that Customer Privacy Act System of Records, USPS 800.000 Address Change, Mail Forwarding, and Related Services should be revised

I. Background

The Postal Service is proposing to utilize ZIP Code™ data from the National Change-of-Address (COA) system to identify household population mobility trends.

The Postal Service will limit the trend analysis to ZIP Code data extracted (or taken) from old and new address location information submitted by customers filing COA requests.

The numerical ZIP Code data will be used in aggregate to determine household population movement and mobility trends within the United States.

Information will be restricted to ZIP Code data only, provided by customers that have submitted COA requests. No Personally Identifiable Information (PII) will be associated with ZIP Code data used for analyzing and determining population mobility trends. No PII will be retained or utilized to conduct the proposed household population mobility trend analysis.

II. Rationale for Changes to USPS Privacy Act Systems of Records

The Postal Service is proposing to modify SOR 800.000 Address Change, Mail Forwarding, and Related Services, to identify population mobility trends in the aggregate.

A new purpose is being added to the existing SOR, appearing as purpose number 12.

III. Description of the Modified System of Records

Pursuant to 5 U.S.C. 552a (e)(11), interested persons are invited to submit written data, views, or arguments on this proposal. A report of the proposed revisions has been sent to Congress and to the Office of Management and Budget for their evaluations. The Postal Service does not expect this amended system of records to have any adverse effect on individual privacy rights. The notice for USPS SOR 800.000, Address Change, Mail Forwarding, and Related Services.is provided below in its entirety, as follows:

SYSTEM NAME AND NUMBER:

USPS 800.000, Address Change, Mail Forwarding, and Related Services.

SECURITY CLASSIFICATION:

None.

SYSTEM LOCATION:

USPS National Customer Support Center (NCSC), Computerized Forwarding System (CFS) sites, Post Offices, USPS Processing and Distribution Centers, USPS IT Eagan Host Computing Services Center, and contractor sites.

SYSTEM MANAGER(S):

Vice President, Enterprise Analytics, United States Postal Service, 475 L'Enfant Plaza SW, Washington, DC 20260-5626, (202) 268-7542.

Vice President, Delivery Operations, United States Postal Service, 475 L'Enfant Plaza SW, Washington, DC 20260-7116, (202) 268-6500.

Vice President, Customer Experience, United States Postal Service, 475 L'Enfant Plaza SW, Washington, DC 20260-0004, (202) 268-2252.

AUTHORITY FOR MAINTENANCE OF THE SYSTEM:

39 U.S.C. 401(2), 403, and 404(a)(1).

PURPOSE(S) OF THE SYSTEM:

1. To provide mail forwarding and Change of Address (COA) services, including local community information, and move related advertisements.

2. To provide address correction services.

3. To counter efforts to abuse the COA process.

4. To provide address information to the American Red Cross or other disaster relief organization about a customer who has been relocated because of disaster.

5. To support investigations related to law enforcement for fraudulent transactions.

6. To provide automatic updates to USPS customer systems using mail forwarding and COA services.

7. To facilitate communication between USPS customers and the Postal Service with regard to COA and address correction services.

8. To enhance the customer experience by improving the security of COA and Hold Mail processes.

9. To protect USPS customers from becoming potential victims of mail fraud and identity theft.

10. To identify and mitigate potential fraud in the COA and Hold Mail processes.

11. To verify a customer's identity when applying for COA and Hold Mail services.

12. To provide input into aggregate household population mobility trend analysis using numerical ZIP Code location data from Change-of-Address (COA) requests.

CATEGORIES OF INDIVIDUALS COVERED BY THE SYSTEM:

Customers requesting Change of Address (COA), mail forwarding, or other related services either electronically or in writing.

Customers who are victims of a natural disaster who request mail forwarding services through the Postal Service or the American Red Cross.

CATEGORIES OF RECORDS IN THE SYSTEM:

1. Customer information: Name, title, signature, customer number, old address, new address, filing date, email address(es), telephone numbers, and other contact information.

2. Verification and payment information: Credit and/or debit card number, type, and expiration date; or date of birth and driver's state and license number; information for identity verification; and billing information. Customers who are victims of a natural disaster who request mail forwarding service electronically may be required to provide date of birth for verification if credit and/or debit card information is unavailable.

3. Demographic information: Designation as individual/family/business.

4. Customer preferences: Permanent or temporary move; mail forwarding instructions; service requests and responses.

5. Customer inquiries and comments: Description of service requests and responses.

6. Records from service providers for identity verification.

7. Online user information: internet Protocol (IP) address, domain name, operating system versions, browser version, date and time of connection, and geographic location.

8. Protective Court Orders filed with change-of-address and mail forwarding requests for individuals, also referred to as Court Ordered Protected Individuals (COPI).

RECORD SOURCE CATEGORIES:

Customers, personnel, contractors, service providers, and for call center operations, commercially available sources of names, addresses, and telephone numbers. For emergency change-of-addresses only, commercially available sources of names, previous addresses, and dates of birth. For alternative authentication, sources of names, previous and new addresses, dates of birth, and driver's state and license number.

ROUTINE USES OF RECORDS MAINTAINED IN THE SYSTEM, INCLUDING CATEGORIES OF USERS AND PURPOSES OF SUCH USES:

Standard routine uses 1. through 7., 10., and 11. apply. In addition:

a. Disclosure upon request. The new address of a specific business or organization that has filed a permanent change-of-address order may be furnished to any individual on request. (Note: The new address of an individual or family will not be furnished pursuant to this routine use, unless authorized by one of the standard routine uses listed above or one of the specific routine uses listed below.) If a domestic violence shelter has filed a letter on official letterhead from a domestic violence coalition stating (i) that such domestic violence coalition meets the requirements of 42 U.S.C. 10410 and (ii) that the organization filing the change of address is a domestic violence shelter, the new address shall not be released except pursuant to routine use d, e, or f pursuant to the order of a court of competent jurisdiction.

b. Disclosure for Address Correction. Disclosure of any customer's new permanent address may be made to a mailer, only if the mailer is in possession of the name and old address: From the National Change-of-Address Linkage (NCOALink®) file if the mailer is seeking corrected addresses for a mailing list; from the Computerized Forwarding System (CFS), from the Postal Automated Redirection System (PARS) if a mailpiece is undeliverable as addressed, or from the Locatable Address Conversion System if an address designation has been changed or assigned. Copies of change-of-address orders may not be furnished. In the event of a disaster or manmade hazard, temporary address changes may be disclosed to a mailer when, in the sole determination of the Postal Service, such disclosure serves the primary interest of the customer, for example, to enable a mailer to send medicines directly to the customer's temporary address, and only if the mailer is in possession of the customer's name and permanent address. If a domestic violence shelter has filed a letter on official letterhead from a domestic violence coalition stating (i) that such domestic violence coalition meets the requirements of 42 U.S.C. 10410 and (ii) that the organization filing the change of address is a domestic violence shelter, the new address shall not be released except pursuant to routine use d, e, or f pursuant to the order of a court of competent jurisdiction.

c. Disclosure for Voter Registration. Any customer's permanent change of address may be disclosed to a duly formed election board or registration commission using permanent voter registration. Copies of change of address orders may be furnished.

d. Disclosure to Government Agency. Any customer's permanent or temporary change of address information may be disclosed to a federal, state, or local government agency upon prior written certification that the information is required for the performance of its duties. A copy of the change of address order may be furnished. Name and address information may be disclosed to government planning authorities, or firms under contract with those authorities, if an address designation has been changed or assigned.

e. Disclosure to Law Enforcement Agency. Any customer's permanent or temporary change of address information may be disclosed to a law enforcement agency, for oral requests made through the Postal Inspection Service, but only after the Postal Inspection Service has confirmed that the information is needed for a criminal investigation. A copy of the change of address order may be furnished.

f. Disclosure for Service of Process. Any customer's permanent or temporary change of address information may be disclosed to a person empowered by law to serve legal process, or the attorney for a party in whose behalf service will be made, or a party who is acting pro se, upon receipt of written information that meets prescribed certification requirements. Disclosure will be limited to the address of the specifically identified individual (not other family members or individuals whose names may also appear on the change of address order). A copy of the change of address order may not be furnished.

g. Disclosure for Jury Service. Any customer's change of address information may be disclosed to a jury commission or other court official, such as a judge or court clerk, for purpose of jury service. A copy of the change of address order may be furnished.

h. Disclosure at Customer's Request. If the customer elects, change of address information may be disclosed to government agencies or other entities.

i. Disclosure to a disaster relief organization. Any customer's permanent or temporary change of address may be disclosed to the American Red Cross or other disaster relief organizations, if that address has been impacted by disaster or manmade hazard.

All routine uses are subject to the following exception: Information concerning an individual who has filed an appropriate protective court order with the postmaster/CFS manager will not be disclosed under any routine use except pursuant to the order of a court of competent jurisdiction.

POLICIES AND PRACTICES FOR RETRIEVAL OF RECORDS:

Records are retrieved by the following methods: For paper records: by name, address, date, and ZIP Code. For electronic records: by name, address, date, ZIP Code™, and customer number for electronic change of address and related service records; by name, address, and email address for customer service records.

POLICIES AND PRACTICES FOR RETENTION AND DISPOSAL OF RECORDS:

1. National change-of-address and mail forwarding records are retained 4 years from the effective date.

2. Delivery units access COA records from the Change-Of-Address Reporting System (COARS) database, which retains 2 years of information from the COA effective date. The physical change-of-address order is retained in the CFS unit for 30 days if it was scanned, or 18 months if it was manually entered into the national database.

3. Online user information may be retained for 12 months.

Records existing on paper are destroyed by shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

RECORD ACCESS PROCEDURES:

Requests for access must be made in accordance with the Notification Procedure above and USPS Privacy Act.

CONTESTING RECORD PROCEDURES:

See NOTIFICATION PROCEDURES and RECORD ACCESS PROCEDURES.

NOTIFICATION PROCEDURES:

Customers wanting to know if information about them is maintained in this system of records should address inquiries to their local postmaster. Inquiries should contain full name, address, effective date of change order, route number (if known), and ZIP Code. Customers wanting to know if information about them is also maintained in the NCOA File should address such inquiries to: Manager, NCOA, National Customer Support Center, United States Postal Service, 225 N Humphreys Blvd. Ste 501, Memphis, TN 38188.

EXEMPTIONS PROMULGATED FOR THE SYSTEM:

None.

HISTORY:

December 27, 2018, 83 FR 66768; June 30, 2016, 81 FR 42760; August 21, 2014, 79 FR 49543; September 13, 2012, 77 FR 56676; July 17, 2008, 73 FR 41135; April 29, 2005, 70 FR 22516.

Sarah Sullivan,
Attorney, Ethics and Legal Compliance.

[FR Doc. 2022-21101 Filed 9-28-22; 8:45 am]

BILLING CODE P